DEPARTMENT OF COMMERCE

National Oceanic and Atmospheric Administration

RIN 0648-XC411

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Herring Advisory Panel on January 16, 2013 to consider actions affecting New England fisheries in the exclusive economic zone (EEZ). Recommendations from this group will be brought to the full Council for formal consideration and action, if appropriate.

DATES: This meeting will be held on Wednesday, January 16, 2013 at 10 a.m.

ADDRESSES: Meeting address: The meeting will be held at the Holiday Inn by the Bay, 88 Spring Street, Portland, ME 04101; telephone: (207) 775-2311; fax: (207) 772-4017.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Advisory Panel (AP) will discuss the development of Framework Adjustment 2 to the Herring Fishery Management Plan (FMP) and the 2013-2015 Atlantic herring fishery specifications; develop related AP recommendations for the committee and Council to consider. Framework 2 includes alternatives to modify the herring fishery specification process to allow for seasonal splitting of sub-ACLs (annual catch limits) in all four herring management areas, as well as annual carryover of un-utilized sub-ACL under certain conditions. The 2013-2015 herring fishery specifications include alternatives for 2013-2015 overfishing limit (OFL), acceptable biological catch (ABC) and ABC control rule, management uncertainty and a total annual catch limit (ACL), domestic annual harvesting (DAH), domestic annual processing (DAP), border transfer (BT), options for sub-ACLs (annual quotas) for four herring management areas, set-asides for research and fixed gear fisheries, and alternatives for accountability measures (AMs) in the herring fishery. Other business may be discussed.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at 978-465-0492, at least 5 days prior to the meeting date.

Authority: 16 U.S.C. 1801 et seq.

Dated: December 17, 2012.
Tracey L. Thompson,
Acting Deputy Director, Office of Sustainable Fisheries, National Marine Fisheries Service.

[FR Doc. 2012-30730 Filed 12-20-12; 8:45 am]

BILLING CODE 3510-22-P